DEPARTMENT OF HEALTH AND HUMAN SERVICES

Health Resources and Services Administration

Agency Information Collection Activities: Proposed Collection: Public Comment Request; Information Collection Request Title: COVID-19 Provider Relief Fund (PRF) and American Rescue Plan (ARP) Rural Payment Reporting Activities, OMB No. 0906-0068—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than August 25, 2025.

ADDRESSES: Submit your comments to paperwork@hrsa.gov or mail the HRSA Information Collection Clearance Officer, Room 14NWH04, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the ICR title for reference.

Information Collection Request Title: COVID-19 Provider Relief Fund (PRF) and American Rescue Plan (ARP) Rural Payment Reporting Activities, OMB No. 0906-0068—Revision.

Abstract: HRSA disbursed the COVID-19 PRF and ARP Rural payments to eligible health care providers to support health care-related expenses or lost revenues attributable to the COVID-19 pandemic. Recipients of PRF and ARP Rural payments agreed to a set of Terms & Conditions (T&Cs), which, among other requirements, mandate compliance with certain reporting requirements that facilitate appropriate oversight of recipients' use of funds. Providers who have attested to the T&Cs regarding their PRF and ARP Rural payment(s), including the requirement that the provider “shall submit reports as the Secretary determines are needed to ensure compliance with conditions that are imposed on this Payment, and such reports shall be in such form, with such content, as specified by the Secretary in future program instructions directed to all recipients,” and use the PRF Reporting Portal to submit information about their use of PRF and ARP Rural payments.

There will be no changes to the Data Form Elements submitted by recipients of PRF and ARP Rural payments. The supplemental document “Post-Payment Notice of Reporting Requirements” has been updated to reflect the removal of reporting periods 8 and 9 (including the applicable payment received period and period of availability dates), as the Public Health Emergency ended on May 11, 2023.

Need and Proposed Use of the Information: Information collected will allow for (1) assessing whether recipients have met statutory and programmatic requirements, (2) conducting audits, (3) gathering data required to report on findings with respect to the disbursements of PRF and ARP Rural payments, and (4) program evaluation. HRSA staff will also use information collected to identify and report on trends in health care metrics and expenditures before and during the allowable period for expending PRF and ARP Rural payments.

If the information is not collected, HRSA will not meet its responsibility to oversee the mandate regarding reporting requirements that facilitate appropriate oversight of recipients' use of funds. PRF and ARP Rural recipients will not be able to fulfill their statutory reporting requirement. HRSA will also not be able to provide reports to Congress and other stakeholders on the use of more than $178 billion in PRF funds and $8.5 billion in ARP Rural funds.

Likely Respondents: PRF and ARP Rural payment recipients who have received more than $10,000 in aggregate PRF and ARP Rural payments during one of the Payment Received Periods outlined below and agreed to the associated T&Cs are required to submit a report in the PRF Reporting Portal during the applicable Reporting Time Period.

Reporting period | Payment received period (payments exceeding $10,000 in aggregate received) | Reporting time period
Period 1 | April 10, 2020, to June 30, 2020 | July 1, 2021, to September 30, 2021.
Period 2 | July 1, 2020, to December 31, 2020 | January 1, 2022, to March 31, 2022.
Period 3 | January 1, 2021, to June 30, 2021 | July 1, 2022, to September 30, 2022.
Period 4 | July 1, 2021, to December 31, 2021 | January 1, 2023, to March 31, 2023.
Period 5 | January 1, 2022, to June 30, 2022 | July 1, 2023, to September 30, 2023.
Period 6 | July 1, 2022, to December 31, 2022 | January 1, 2024, to March 31, 2024.
Period 7 | January 1, 2023, to June 30, 2023 | July 1, 2024, to September 30, 2024.

While the standard reporting time periods have ended, there are still scenarios in which these documents are required. These include:

• Providers who receive a Final Repayment Notice, based on a HRSA finding of non-compliance, who submit a Decision Review request and are provided an Opportunity to Report. The Opportunity to Report allows providers another chance to submit a report to come into compliance.

• Adjudicative orders that would require HRSA to allow a Provider an opportunity to report.

• Providers who have prevailed in a dispute or have entered into a settlement with HRSA may need to submit a report on how funds were used.

These scenarios make it necessary to retain and extend approval of the information collection activities associated with required reporting to support compliance, validation, and enforcement actions. Providers would provide documentation through the portal based on the reporting period that they received the funds in question.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
PRF Reporting Portal, Reporting Period 1 (Providers who received payments April 10, 2020, to June 30, 2020) | 10 | 1 | 10 | 5.43 | 54.30
PRF Reporting Portal, Reporting Period 2 (Providers who received payments July 1, 2020, to December 31, 2020) | 10 | 1 | 10 | 4.22 | 42.20
PRF Reporting Portal, Reporting Period 3 (Providers who received payments, January 1, 2021, to June 30, 2021) | 10 | 1 | 10 | 5.88 | 58.80
PRF and ARP Rural Reporting Portal, Reporting Period 4 (Providers who received payments July 1, 2021, to December 31, 2021) | 10 | 1 | 10 | 5.26 | 52.60
PRF and ARP Rural Reporting Portal, Reporting Period 5 (Providers who received payments January 1, 2022, to June 30, 2022) | 5 | 1 | 5 | 5.18 | 25.90
PRF and ARP Rural Reporting Portal, Reporting Period 6 (Providers who received payments July 1, 2022, to December 31, 2022) | 50 | 1 | 50 | 7.37 | 368.50
PRF and ARP Rural Reporting Portal, Reporting Period 7 (Providers who received payments January 1, 2023, to June 30, 2023) | 5 | 1 | 5 | 5.35 | 26.75
Total | 100 |  | 100 |  | 629.05

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2025-11746 Filed 6-25-25; 8:45 am]

BILLING CODE 4165-15-P